DEPARTMENT OF HOMELAND SECURITY

Coast Guard

[Docket No. USCG-2024-0781]

National Chemical Transportation Safety Advisory Committee; October 2024 Meeting

AGENCY: Coast Guard, Department of Homeland Security.

ACTION: Notice of open Federal advisory committee meetings.

SUMMARY: The National Chemical Transportation Safety Advisory Committee (Committee) and its three subcommittees will meet in public in Washington, DC to discuss matters relating to the safe and secure marine transportation of hazardous materials. The Committee will be held in person only. The three subcommittee meetings will be virtual. For more detailed information regarding the subcommittee meetings, see Agenda Day 1 and Day 2 below.

DATES:

Four Open Meetings: (1) The Support Reductions to Emissions and Environmental Impacts Associated with Marine Transport of Chemicals, Liquefied Gases and Liquefied Natural Gas (LNG); Including the Working Group on the update to 46 CFR 150 concerning Cargo Compatibility Testing subcommittee will meet virtually on Tuesday, October 8, 2024, from 2 p.m. to 5 p.m. Eastern Daylight Time (EDT). If the subcommittee has completed its business the meeting may end early. (2) The Industry Best Practices and Regulatory Updates Related to the Maritime Transportation of Lithium Batteries subcommittee will meet virtually on Wednesday, October 9, 2024, from 9 a.m. to noon EDT. If the subcommittee has completed its business the meeting may end early. (3) The Updates to CG-ENG Policy Letter 02-15: Design Standards For U.S. Barges Intending to Carry Liquefied Natural Gas in Bulk subcommittee will meet virtually on Wednesday, October 9, 2024, from 1:30 p.m. to 5 p.m. EDT. If the subcommittee has completed its business the meeting may end early. (4) The National Chemical Transportation Safety Advisory Committee will meet in-person on Thursday, October 10, 2024, from 9 a.m. to 2 p.m. EDT. If the Committee has completed its business the meeting may end early.

The subcommittee taskings and other subcommittee information can be found using the following address: https://homeport.uscg.mil/missions/federal-advisory-committees/national-chemical-transportation-safety-advisory-committee-(nctsac)/task-statements.

Comments and supporting documents: To ensure your comments are received by Committee and subcommittee members before the meetings, submit your written comments no later than September 24, 2024. Please specify to whom your comments are directed: the Committee or the subcommittees.

ADDRESSES: The National Chemical Transportation Safety Advisory Committee meeting will be held at the American Bureau of Shipping Group, 80 M Street Southeast, Suite 480, Washington, DC 20003.

Pre-registration Information: Pre-registration is required for in-person access to the full Committee meeting or to attend the subcommittee meetings via videoconference. Public attendees will be required to pre-register no later than noon EDT on September 24, 2024, to be admitted to the meetings. In-person attendance may be capped due to limited space in the meeting venue, and registration will be on a first-come-first-served basis. To pre-register, contact Lieutenant Joseph Kolb at Joseph.B.Kolb2@uscg.mil. You will be asked to provide your name, telephone number, email, company or group with which you are affiliated, and whether you wish to attend virtually for subcommittee meetings or in person for full Committee meeting. If you wish to attend virtually, please also provide the subcommittee meeting(s) you wish to attend.

The National Chemical Transportation Safety Advisory Committee is committed to ensuring all participants have equal access regardless of disability status. If you require reasonable accommodation due to a disability to fully participate, please email Lieutenant Joseph Kolb at Joseph.B.Kolb2@uscg.mil or call at 206-815-1623 as soon as possible.

Instructions: You are free to submit comments at any time, including orally at the meetings as time permits, but if you want Committee or subcommittee members to review your comment before the meetings, please submit your comments no later than September 24, 2024. We are particularly interested in comments on the topics in the “Agenda” section below. We encourage you to submit comments through the Federal Decision Making Portal at https://www.regulations.gov. To do so, go to https://www.regulations.gov, type USCG-2024-0781 in the search box, and click “Search”. Next, look for this document in the Search Results column and click on it. Then click on the Comment option. If your material cannot be submitted using https://www.regulations.gov, contact the individual in the FOR FURTHER INFORMATION CONTACT section of this document for alternate instructions. You must include the docket number [USCG-2024-0781]. Comments received will be posted without alteration at https://www.regulations.gov, including any personal information provided. You may wish to review the Privacy and Security Notice found via a link on the homepage of https://www.regulations.gov, and the Department of Homeland Security's eRulemaking System of Records notice (85 FR 14226, March 11, 2020). If you encounter technical difficulties with comment submission, contact the individual listed in the FOR FURTHER INFORMATION CONTACT section of this notice.

Docket Search: Documents mentioned in this notice as being available in the docket, and all public comments, will be in the online docket at https://www.regulations.gov and can be viewed by following that website's instructions. Additionally, if you go to the online docket and sign-up for email alerts, you will be notified when comments are posted.

FOR FURTHER INFORMATION CONTACT: Lieutenant Joseph Kolb, Alternate Designated Federal Officer of the National Chemical Transportation Safety Advisory Committee, telephone 206-815-1623, or email Joseph.B.Kolb2@uscg.mil.

SUPPLEMENTARY INFORMATION: Notice of these meetings is in compliance with the Federal Advisory Committee Act, (Pub. L. 117-286, 5. U.S.C. ch. 10). The Committee was authorized by section 601 of the Frank LoBiondo Coast Guard Authorization Act of 2018 (Pub. L. 115-282, 132 Stat. 4192) and codified in 46 U.S.C. 15101. The Committee operates under the provisions of the Federal Advisory Committee Act and 46 U.S.C. 15109. The Committee provides advice and recommendations to the Secretary of Homeland Security on matters related to the safe and secure marine transportation of hazardous materials.

Agenda

Day 1

Tuesday, October 8, 2024, 2 p.m. to 5 p.m. EDT

The Support Reductions to Emissions and Environmental Impacts Associated with Marine Transport of Chemicals, Liquefied Gases and Liquefied Natural Gas (LNG); Including the Working Group on the update to 46 CFR 150 concerning Cargo Compatibility Testing subcommittee (Task Statement 22-01).

The subcommittee will meet to prepare findings and any proposed recommendations in response to the tasking.

Day 2

Wednesday, October 9, 2024, 9 a.m. to Noon EDT

The Industry Best Practices and Regulatory Updates Related to the Maritime Transportation of Lithium Batteries subcommittee (Task Statement 22-02).

The subcommittee will meet to prepare findings and any proposed recommendations in response to the tasking.

Wednesday, October 9, 2024, 1:30 to 5 p.m. EDT

The Updates to CG-ENG Policy Letter 02-15: Design Standards For U.S. Barges Intending to Carry Liquefied Natural Gas in Bulk subcommittee (Task Statement 24-01).

The subcommittee will meet to prepare findings and any proposed recommendations in response to the tasking.

The agenda for each subcommittee will include the following:

(1) Call to order by subcommittee Chair.

(2) Introduction and review subcommittee tasking.

(3) Public comment period.

(4) Adjournment of subcommittee meetings.

Day 3

Thursday, October 10, 2024, 9 a.m. to 2 p.m. EDT

The agenda for the National Chemical Transportation Safety Advisory Committee meeting on Thursday, October 10, 2024 is as follows:

(1) Call to order.

(2) Roll call and determination of quorum.

(3) Swearing in of new members.

(4) Remarks from U.S. Coast Guard leadership.

(5) Chairman and Designated Federal Officer's remarks.

(6) Acceptance of February 1, 2024 meeting minutes and status of task items.

(7) Each subcommittee Chair briefs and update the Committee:

a. The Support Reductions to Emissions and Environmental Impacts Associated with Marine Transport of Chemicals, Liquefied Gases and Liquefied Natural Gas (LNG); Including the Working Group on the update to 46 CFR 150 concerning Cargo Compatibility Testing subcommittee (Task Statement 22-01). Subcommittee chair briefs Committee, public comment, Committee deliberations and Committee vote.

b. The Industry Best Practices and Regulatory Updates Related to the Maritime Transportation of Lithium Batteries subcommittee (Task Statement 22-02). Subcommittee chair briefs Committee, public comment, Committee deliberations and Committee vote.

c. The CG-ENG Policy Letter 02-15: Design Standards for U.S. Barges Intending to Carry Liquefied Natural Gas in Bulk subcommittee (Task Statement 24-01). Subcommittee chair briefs Committee, public comment, Committee deliberations and Committee vote.

(8) Election of Chair and Vice-Chair.

(9) Recognition of outgoing members from the Committee.

(10) Final public comment period.

(11) Set next meeting date and location.

(12) Adjournment of meeting.

A copy of all meeting documentation will be available at: https://homeportr.uscg.mil/missions/federal-advisory-committees/national-chemical-transportation-safety-advisory-committee-(nctsac)/committee-meetings no later than October 1, 2024. Alternatively, you may contact Lieutenant Joseph Kolb as noted in the FOR FURTHER INFORMATION CONTACT section above.

Public comments will be taken throughout the meetings as the Committee and subcommittees discuss the issues and prior to deliberations and voting. There will be a final public comment period at the end of the full Committee meeting. Each public comment in the plenary session will be limited to two minutes.

Please contact the individual listed in the FOR FURTHER INFORMATION CONTACT section above, to register as a speaker.

Dated: September 16, 2024.
Jeffrey G. Lantz,
Director of Commercial Regulations and Standards.

[FR Doc. 2024-21513 Filed 9-19-24; 8:45 am]

BILLING CODE 9110-04-P